COMMITTEE FOR PURCHASE FROM PEOPLE WHO ARE BLIND OR SEVERELY DISABLED

Procurement List; Proposed Additions and Deletions

AGENCY: Committee for Purchase From People Who Are Blind or Severely Disabled.

ACTION: Proposed additions to and deletions from procurement list.

SUMMARY: The Committee is proposing to add to the Procurement List commodities and services to be furnished by nonprofit agencies employing persons who are blind or have other severe disabilities, and to delete commodities previously furnished by such agencies.

DATES: Comments must be received on or before September 10, 2001.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740.

SUPPLEMENTARY INFORMATION: This notice is published pursuant to 41 U.S.C. 47(a)(2) and 41 CFR 51-2.3. Its purpose is to provide interested persons an opportunity to submit comments on the possible impact of the proposed actions.

Additions

If the Committee approves the proposed addition, the entities of the Federal Government identified in this notice for each commodity or service will be required to procure the commodities and services listed below from nonprofit agencies employing persons who are blind or have other severe disabilities.

I certify that the following action will not have a significant impact on a substantial number of small entities. The major factors considered for this certification were:

1. The action will not result in any additional reporting, recordkeeping or other compliance requirements for small entities other than the small organizations that will furnish the commodities and services to the Government.

2. The action will result in authorizing small entities to furnish the commodities and services to the Government.

3. There are no known regulatory alternatives which would accomplish the objectives of the Javits-Wagner-O'Day Act (41 U.S.C. 46-48c) in connection with the commodities and services proposed for addition to the Procurement List. Comments on this certification are invited.

Commenters should identify the statement(s) underlying the certification on which they are providing additional information. The following commodities and services are proposed for addition to Procurement List for production by the nonprofit agencies listed:

Commodities

Paper, Xerographic & Inkjet (Large Format)

7530-00-NIB-0483

7530-00-NIB-0598

7530-00-NIB-0599

7530-00-NIB-0600

7530-00-NIB-0601

7530-00-NIB-0602

7530-00-NIB-0603

7530-00-NIB-0604

7530-00-NIB-0605

7530-00-NIB-0606

7530-00-NIB-0607

7530-00-NIB-0608

7530-00-NIB-0609

7530-00-NIB-0610

7530-00-NIB-0611

7530-00-NIB-0612

7530-00-NIB-0613

7530-00-NIB-0614

7530-00-NIB-0615

7530-00-NIB-0616

7530-00-NIB-0617

7530-00-NIB-0618

7530-00-NIB-0619

7530-00-NIB-0620

7530-00-NIB-0621

7530-00-NIB-0622

7530-00-NIB-0623

7530-00-NIB-0624

7530-00-NIB-0625

7530-00-NIB-0626

7530-00-NIB-0627

7530-00-NIB-0628

7530-00-NIB-0629

7530-00-NIB-0630

7530-00-NIB-0631

7530-00-NIB-0632

7530-00-NIB-0633

7530-00-NIB-0635

7530-00-NIB-0636

7530-00-NIB-0637

7530-00-NIB-0638

7530-00-NIB-0639

7530-00-NIB-0640

7530-00-NIB-0641

7530-00-NIB-0642

NPA: Wiscraft Inc.—Wisconsin Enterprises for the Blind Milwaukee, Wisconsin

Government Agency: GSA/Office Supplies and Paper Products Commodity Center Paper, Xerographic 7530-01-398-2652

NPA: Louisiana Association for the Blind, Shreveport, Louisiana

Government Agency: GSA/Office Supplies and Paper Products Commodity Center

Services

Grounds Maintenance, Naval and Marine Corps Reserve Center, Encino, California

NPA: Lincoln Training Center & Rehabilitation Workshop

South El Monte, California

Government Agency: Naval and Marine Corps Reserve Center, Encino, California

Janitorial/Custodial, Eielson Air Force Base, Alaska

NPA: Fairbanks Resource Agency Fairbanks, Alaska

Government Agency: Eielson Air Force Base, Alaska

Janitorial/Custodial

At the Following Location:

Boulevard Border Patrol Station, 39701 Avenida de Robles Verdes, Boulevard, California

Campo Border Patrol Station, 3 Forestgate Road, Campo, California

IH-8 West Checkpoint, 728 Interstate 8 Westbound, Pine Valley, California

Dulzura Border Patrol Horse Patrol Station, 17323D Highway 94, Dulzura, California

Imperial Beach Border Patrol Station, 1802 Saturn Boulevard, San Diego, California

San Clemente Check Point, San Clemente, California

San Diego Border Patrol Sector Air Operations, 720 Curran Street, San Diego, California

San Diego Border Patrol Alien Detention Center, 760 Boeing Road, San Diego, California

San Diego Sector Border Patrol Hill on Beyer, 3752 Beyer Blvd, San Diego, California

San Diego Sector Border Patrol Barracks 4 & 5, 3752 Beyer Blvd, San Diego, California

Chula Vista Border Patrol Station, San Ysidro, California

State Route 94 West Border Patrol Checkpoint, 15430A Campo Road, Jamul, California

NPA: Orange County ARC, Orange, California

Government Agency: DOJ/Immigration and Naturalization Service

Janitorial/Custodial, Andrews Air Force Base, Maryland

NPA: The Chimes, Inc., Baltimore, Maryland

Government Agency: Andrews Air Force Base, Maryland

Janitorial/Grounds Maintenance

At the Following Locations:

Sonoita Border Patrol Station, 3225 Highway 82, Sonoita, Arizona

Tucson Station (Silverbell), 3200 N. Silverbell Road, Tucson, Arizona

Tucson Sector HQ, 2010 W. Ajo Way, Tucson, Arizona

Willcox Border Patrol Station, 200 W Downen, Willcox, Arizona

Douglas Border Patrol Station, 1051 Lawrence Avenue, Douglas, Arizona

Ajo Border Patrol Station, 850 N. Tucson/Ajo Highway, Ajo, Arizona

Tucson Sector HQ (Building 9), 2010 W. Ajo Way, Tucson, Arizona

NPA: J.P. Industries, Inc., Tucson, Arizona

Government Agency: DOJ/Immigration and Naturalization Service

Janitorial/Grounds Maintenance

At the Following Locations:

Calexico Border Station, 11150 Birch Street, Calexico, California

El Centro HQ Sector, 1111 N. Imperial Avenue, El Centro, California

Existing El Centro Station, 1081 N. Imperial Avenue, El Centro, California

Highway 111 Checkpoint, Mile Marker 51/Niland, Niland, California

Highway 86 Checkpoint, 100 Yards South of Highway 78, Highway 78 and Highway 86, Niland, California

NPA: Imperial County Work Training Center, Inc., El Centro, California

Government Agency: DOJ/Immigration and Naturalization Service

Deletions

I certify that the following action will not have a significant impact on a substantial number of small entities. The major factors considered for this certification were:

1. The action will not result in any additional reporting, recordkeeping or other compliance requirements for small entities.

2. The action will result in authorizing small entities to furnish the commodities and services to the Government.

3. There are no known regulatory alternatives which would accomplish the objectives of the Javits-Wagner-O'Day Act (41 U.S.C. 46-48c) in connection with the commodities and services proposed for deletion from the Procurement List.

The following commodities are proposed for deletion from the Procurement List:

Commodities

Mat, Floor

7220-00-165-7020

Mat, Floor

7220-00-238-8854

Dining Packet

7360-00-935-6407

Ballpoint Pen, Stick, Rubberized Barrel

7520-01-422-0319

7510-01-446-4853

7510-01-446-4854

Refill, Ballpoint Pen, Stick, Rubberized

7510-01-357-6831

7510-01-357-6832

7510-01-357-6834

Sheryl D. Kennerly,
Director, Information Management.

[FR Doc. 01-20104 Filed 8-9-01; 8:45 am]

BILLING CODE 6353-01-P